DEPARTMENT OF HEALTH AND HUMAN SERVICES

Centers for Medicare & Medicaid Services

[CMS-4051-N]

Medicare Program; Renewal of the Advisory Panel on Medicare Education (APME) and Notice of Meeting of the Advisory Panel—February 27, 2003

AGENCY: Centers for Medicare & Medicaid Services (CMS), HHS.

ACTION: Notice of renewal and notice of meeting.

SUMMARY: This notice announces the renewal of the Advisory Panel on Medicare Education (APME or the Panel). The Panel advises and makes recommendations to the Secretary of the Department of Health and Human Services and the Administrator of the Centers for Medicare & Medicaid Services on opportunities to enhance the effectiveness of consumer education strategies concerning the Medicare program. This notice announces the signing of the APME charter renewal by the Secretary on January 21, 2003. The charter will terminate on January 21, 2005, unless renewed by the Secretary.

In accordance with the Federal Advisory Committee Act, 5 U.S.C. Appendix 2, section 10(a) (Pub. L. 92-463) this notice also announces a meeting of the Advisory Panel on Medicare Education (the Panel) on February 27, 2003. This meeting is open to the public.

DATES: The meeting is scheduled for Thursday, February 27, 2003, from 9:15 a.m. to 4 p.m., e.s.t.

Deadline for Submission of Presentations and Comments: February 20, 2003, 12 noon, e.s.t.

ADDRESSES: The meeting will be held at the Wyndham Washington Hotel, 1400 M Street, NW., Washington, DC, 20005, (202) 429-1700.

FOR FURTHER INFORMATION CONTACT: Lynne Johnson, Health Insurance Specialist, Division of Partnership Development, Center for Beneficiary Choices, Centers for Medicare & Medicaid Services, 7500 Security Boulevard, S2-23 05, Baltimore, MD, 21244-1850, (410) 786-0090. Please refer to the CMS Advisory Committees Information Line (1-877-449-5659 toll free)/(410-786-9379 local) or the Internet (http://www.cms.gov/faca/apme/default.asp) for additional information and updates on committee activities, or contact Ms. Johnson via E-mail at ljohnson3@cms.hhs.gov. Press inquiries are handled through the CMS Press Office at (202) 690-6145.

SUPPLEMENTARY INFORMATION:

I. Background

Section 222 of the Public Health Service Act (42 U.S.C. 217a), as amended, grants to the Secretary the authority to establish an advisory panel if the Secretary finds the panel necessary and in the public interest. The Secretary signed the charter establishing this panel on January 21, 1999 (64 FR 7849), and approved the renewal of the charter on January 18, 2001. The Panel advises and makes recommendations to the Secretary and the Administrator of the Centers for Medicare & Medicaid Services (CMS) on opportunities to enhance the effectiveness of consumer education strategies concerning the Medicare program. The goals of the panel are as follows:

• Develop and implement a national Medicare education program that describes the options for selecting a health plan under Medicare.

• Enhance the Federal government's effectiveness in informing the Medicare consumer, including the appropriate use of public-private partnerships.

• Expand outreach to vulnerable and underserved communities, including racial and ethnic minorities, in the context of a national Medicare education program.

• Assemble an information base of best practices for helping consumers evaluate health plan options and build a community infrastructure for information, counseling, and assistance.

The current members of the panel are: Dr. Jane Delgado, Chief Executive Officer, National Alliance for Hispanic Health; Joyce Dubow, Senior Policy Advisor, Public Policy Institute, AARP; Timothy Fuller, Executive Director, National Gray Panthers; John Graham IV, Chief Executive Officer, American Diabetes Association; Dr. William Haggett, Senior Vice President, Government Programs, Independence Blue Cross; Thomas Hall, Chairman and Chief Executive Officer, Cardio-Kinetics, Inc.; David Knutson, Director, Health System Studies, Park Nicollet Institute for Research and Education; Brian Lindberg, Executive Director, Consumer Coalition for Quality Health Care; Katherine Metzger, Director, Medicare and Medicaid Programs, Fallon Community Health Plan; Dr. Laurie Powers, Co-Director, Center on Self-Determination, Oregon Health Sciences University; Dr. Marlon Priest, Professor of Emergency Medicine, University of Alabama at Birmingham; Dr. Susan Reinhard, Co-Director, Center for State Health Policy, Rutgers University and Chairperson of the Advisory Panel on Medicare Education; Dr. Everard Rutledge, Vice President of Community Health, Bon Secours Health Systems, Inc.; Jay Sackman, Executive Vice President, 1199 Service Employees International Union; Dallas Salisbury, President and Chief Executive Officer, Employee Benefit Research Institute; Rosemarie Sweeney, Vice President, Socioeconomic Affairs and Policy Analysis, American Academy of Family Physicians; and Bruce Taylor, Director, Employee Benefit Policy and Plans, Verizon Communications.

II. Provisions of this Notice

A. Renewal

This notice announces the signing of the Advisory Panel on Medicare Education charter renewal by the Secretary on January 21, 2003. The charter will terminate on January 21, 2005, unless renewed by the Secretary before the expiration date.

B. Meeting Notice

The agenda for the February 27, 2003, meeting will include the following items:

• Recap of the previous (November 19, 2002) meeting.

• Center for Beneficiary Choices update.

• Promoting the use of Medicare preventive benefits.

• Eliminating disparities in the use of Medicare preventive benefits.

• 2003/2004 Medicare Education Campaign.

• Update on Home Health Quality Initiative.

• Public comment.

• Listening session with CMS leadership.

• Next steps.

Individuals or organizations that wish to make a 5-minute oral presentation on an agenda topic should contact Ms. Johnson by 12 noon, February 20, 2003. A written copy of the oral presentation should also be submitted to Ms. Johnson by 12 noon, February 20, 2003. The number of oral presentations may be limited by the time available. Individuals not wishing to make a presentation may submit written comments to Ms. Johnson by 12 noon, February 20, 2003. The meeting is open to the public, but attendance is limited to the space available. Individuals requiring sign language interpretation for the hearing impaired or other special accommodations should contact Ms. Johnson at least 15 days before the meeting.

III. Copies of the Charter

You may obtain a copy of the Secretary's charter for the APME by submitting a request to Lynne Johnson, Health Insurance Specialist, Division of Partnership Development, Center for Beneficiary Choices, Centers for Medicare & Medicaid Services, 7500 Security Boulevard, S2-23-05, Baltimore, MD, 21244-1850, (410) 786-0090 or contact Ms. Johnson via E-mail at ljohnson3@cms.hhs.gov. A copy of the charter will also be available on the Internet at (http://www.cms.gov/faca/apme/default.asp).

Authority: Sec. 222 of the Public Health Service Act (42 U.S.C. 217(a) and sec. 10(a) of Pub. L. 92-463 (5 U.S.C. App. 2, sec. 10(a) and 41 CFR 102-3).

(Catalog of Federal Domestic Assistance Program No. 93.733, Medicare—Hospital Insurance Program; and Program No. 93.774, Medicare—Supplementary Medical Insurance Program.)
Dated: February 4, 2003.
Thomas A. Scully,
Administrator, Centers for Medicare & Medicaid Services.

[FR Doc. 03-3073 Filed 2-7-03; 8:45 am]

BILLING CODE 4120-01-P